DEPARTMENT OF ENERGY

Federal Energy Regulatory Commission

Combined Notice of Filings #1

Take notice that the Commission received the following electric rate filings:

Docket Numbers: ER12-1142-000.

Applicants: PJM Interconnection, L.L.C., American Transmission Systems, Incorporation.

Description: FirstEnergy submits FE-AMP Meter Installation & Maintenance Service Agreement No. 3199 to be effective 1/26/2012.

Filed Date: 2/22/12.

Accession Number: 20120222-5121.

Comments Due: 5 p.m. ET 3/14/12.

Docket Numbers: ER12-1143-000.

Applicants: Southwestern Electric Power Company.

Description: 20120222 Hope PSA Compliance to be effective 12/17/2010.

Filed Date: 2/22/12.

Accession Number: 20120222-5123.

Comments Due: 5 p.m. ET 3/14/12.

Docket Numbers: ER12-1144-000.

Applicants: WSPP Inc.

Description: New Service Schedule R to WSPP Agreement to be effective 4/22/2012.

Filed Date: 2/22/12.

Accession Number: 20120222-5126.

Comments Due: 5 p.m. ET 3/14/12.

Docket Numbers: ER12-1145-000.

Applicants: Southwest Power Pool, Inc.

Description: Southwest Power Pool, Inc.'s Notice of Cancellation of Large Generator Interconnection Agreement.

Filed Date: 2/22/12.

Accession Number: 20120222-5148.

Comments Due: 5 p.m. ET 3/14/12.

Take notice that the Commission received the following PURPA 210(m)(3) filings:

Docket Numbers: QM12-2-001.

Applicants: Public Service Company of New Mexico.

Description: Supplemental Response to deficiency letter that amends the November 30, 2011 filing of Public Service Company of New Mexico.

Filed Date: 2/22/12.

Accession Number: 20120222-5111.

Comments Due: 5 p.m. ET 3/14/12.

Take notice that the Commission received the following electric reliability filings:

Docket Numbers: RR12-4-000.

Applicants: North American Electric Reliability Corp.

Description: Petition of the North American Electric Reliability Corporation for Approval of Amendments to Delegation Agreement with Florida Reliability Coordinating Council—Amendments to FRCC's Bylaws and to Exhibit D of the FRCC Delegation Agreement.

Filed Date: 2/22/12.

Accession Number: 20120222-5151.

Comments Due: 5 p.m. ET 3/14/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2012.
Nathaniel J. Davis, Sr.,
Deputy Secretary.

[FR Doc. 2012-5065 Filed 3-1-12; 8:45 am]

BILLING CODE 6717-01-P